ENVIRONMENTAL PROTECTION AGENCY

40 CFR Part 52

[EPA-R06-OAR-2016-0520; EPA-R06-OAR-2018-0129; FRL-9976-64—Region 6]

Louisiana; Regional Haze State Implementation Plan; Petition for Reconsideration

AGENCY: Environmental Protection Agency (EPA).

ACTION: Notice of action denying petition for reconsideration.

SUMMARY: The Environmental Protection Agency (EPA) is providing notice of its response to a petition for reconsideration of a rule published in the Federal Register on December 21, 2017 addressing Clean Air Act regional haze planning requirements for the State of Louisiana. The petition, submitted on February 20, 2018, on behalf of the Sierra Club and the National Parks Conservation Association (NPCA) asked EPA to reconsider its final action which determined that Louisiana has satisfied the Clean Air Act's reasonable progress and long-term strategy requirements. EPA has denied the petition by action signed April 9, 2018, for reasons that EPA explains in the document denying the petition.

DATES: Petitions for review must be filed by June 15, 2018.

ADDRESSES: The EPA has established dockets for this action under Docket ID No. EPA-R06-OAR-2016-0520 for non-electric generating units and Docket ID No. EPA-R06-OAR-2017-0129 for electric generating units (EGUs). All documents in the dockets are listed on the http://www.regulations.gov website. Although listed in the index, some information is not publicly available, e.g., Confidential Business Information or other information whose disclosure is restricted by statute. Certain other material, such as copyrighted material, is not placed on the internet and will be publicly available only in hard copy form. Publicly available docket materials are available either electronically through http://www.regulations.gov or in hard copy at the EPA Region 6, 1445 Ross Avenue, Suite 700, Dallas, Texas 75202-2733.

FOR FURTHER INFORMATION CONTACT: Jennifer Huser, huser.jennifer@epa.gov, 214-665-7347 or Adaobi Nwankwo, nwankwo.adaobi@epa.gov, 214-665-8197.

SUPPLEMENTARY INFORMATION: This action pertains to facilities in Louisiana, and is not based on a determination of nationwide scope or effect. Thus, under section 307(b)(1) of the Clean Air Act, any petitions for review of EPA's action denying the Sierra Club and the NPCA petition for reconsideration must be filed in the Court of Appeals for the Fifth Circuit on or before June 15, 2018.

Dated: April 9, 2018.
Anne Idsal,
Regional Administrator, Region 6.

[FR Doc. 2018-07799 Filed 4-13-18; 8:45 am]

BILLING CODE 6560-50-P